DEPARTMENT OF HOUSING AND URBAN DEVELOPMENT

[Docket No. FR-5376-N-120]

Notice of Submission of Proposed Information Collection to OMB; Emergency Comment Request; Transformation Initiative: Homeless Families Grant Program; Notice of Proposed Information Collection for Public Comment

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal.

The purpose of this program is to enhance the demonstration project conducted by the Office of Policy Development focusing on Homeless Families by providing a vehicle for conducting a number of small research projects aimed at collecting additional/supplemental information and analyses.

Grantees are selected through a competition process, announced through a Notice of Funding Availability. Applicants are required to submit certain information as part of their application for assistance. Grantees are required to prepare a quarterly status report so that HUD monitors the progress of grantees in completing their research.

DATES: Comments Due Date: December 23, 2010.

ADDRESSES: Interested persons are invited to submit comments regarding this proposal. Comments must be received within fourteen (14) days from the date of this Notice. Comments should refer to the proposal by name/or OMB approval number and should be sent to: Ross A. Rutledge, HUD Desk Officer, Office of Management and Budget, New Executive Office Building, Washington, DC 20503; e-mail: Ross.A.Rutledge@omb.eop.gov; fax: 202-395-3086.

FOR FURTHER INFORMATION CONTACT: Colette Pollard, Departmental Reports Management Officer, QDAM, Department of Housing and Urban Development, 451 7th Street, SW., Washington, DC 20410; e-mail Colette.Pollard@HUD.gov; telephone (202) 402-3400. This is not a toll-free number. Copies of available documents submitted to OMB may be obtained from Ms. Pollard.

SUPPLEMENTARY INFORMATION: The purpose of this program is to enhance the demonstration project conducted by the Office of Policy Development focusing on Homeless Families by providing a vehicle for conducting a number of small research projects aimed at collecting additional/supplemental information and analyses.

Grantees are selected through a competition process, announced through a Notice of Funding Availability. Applicants are required to submit certain information as part of their application for assistance. Grantees are required to prepare a quarterly status report so that HUD monitors the progress of grantees in completing their research.

This Notice Also Lists the Following Information

Title of Proposal: Transformation Initiative: Homeless Families Small Grant Research Demonstration Program.

Description of Information Collection: To select grantees during the application process and to monitor all grantee's performance.

OMB Control Number: Pending.

Agency Form Numbers: SF-424supp, 424-cb, SF-424, 2880, SF-LLL.

Members of Affected Public: Private Sector.

Estimation of the Total Numbers of Hours Needed to Prepare the Information Collection Including Number of Respondents, Frequency of Responses, and Hours of Response:

(1) Pre-Award:

HUD estimates that each applicant spends approximately 7 person-hours to complete the preliminary application phase. Almost all of this time is invested by a researcher, expert, analyst. HUD estimates the mean hourly rate at $30. For 15 applications, the computation is as follows: 15 applications × 7 hours × $30 per hours = $3,150.

HUD estimates that each applicant spends approximately 41.25 person-hours to complete an application. Almost all of this time is invested by a researcher, expert, analyst. HUD estimates the mean hourly rate at $30. For 10 applications, the computation is as follows: 10 applications × 41.25 hours × $30 per hours = $12,375.

(2) Post-Award:

HUD estimates that each grantee will spend approximately 6 hours a year maintaining records. HUD also estimates that each grantee will spend approximately 4 hours a year preparing monitoring reports. Clerical staff and faculty/supervisory staff will share this burden. HUD estimates the applicable hourly rate at $15. The computation is as follow: 2 grantees × 10 hours × $15 an hour = $300.

Description of information collection | Number of respondents | Responses per year | Total annual responses | Hrs per response | Total hours
SF424 | 15 | 1 | 15 | 0.75 | 11.25
Pre-application stage | 15 | 1 | 15 | 7 | 105
SF424 Supplement | 10 | 1 | 10 | 0.08 | .8
HUD 424CB | 10 | 1 | 15 | 3 | 30
SFLLL | 10 | 1 | 15 | 0.17 | 1.7
HUD 2880 (2510-0011) | 10 | 1 | 10 | 0 | 0
HUD 96010 (2535-0114) | 10 | 1 | 10 | 3 | 30
Rating factor 1 | 10 | 1 | 10 | 7 | 70
Rating factor 2 | 10 | 1 | 10 | 7 | 70
Rating factor 3 | 10 | 1 | 10 | 7 | 70
Rating factor 4 | 10 | 1 | 10 | 7 | 70
Rating factor 5 | 10 | 1 | 10 | 7 | 70
Subtotal (Application) | 10 | 1 | 10 | 49 | 528.75
Quarterly Reports | 2 | 4 | 8 | 6 | 48
Recordkeeping | 2 |  | 2 | 4 | 8
Total | 10 |  | 10 | Varies | 584.75

Authority: The Paperwork Reduction Act of 1995, 44 U.S.C. chapter 35, as amended.

Dated: December 3, 2010.
Colette Pollard,
Departmental Reports Management Officer, Office of the Chief Information Officer.

[FR Doc. 2010-31007 Filed 12-8-10; 8:45 am]

BILLING CODE 4210-67-P